DEPARTMENT OF ENERGY

Federal Energy Regulatory Commission

[Docket No. RD24-2-000]

Commission Information Collection Activities (FERC-725E); Comment Request; Revision and Extension

AGENCY: Federal Energy Regulatory Commission.

ACTION: Notice for revision and extension of information collection and request for comments.

SUMMARY: In compliance with the requirements of the Paperwork Reduction Act of 1995, the Federal Energy Regulatory Commission (Commission or FERC) is soliciting public comment on the revision and extension to the information collection, FERC-725E (Mandatory Reliability Standards for the Western Electric Coordinating Council).

DATES: Comments on the collection of information are due April 8, 2024.

ADDRESSES: You may submit your comments (identified by Docket No. RD24-2-000) on FERC-725E by one of the following methods:

Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Jean Sonneman may be reached by email at DataClearance@FERC.gov, telephone at (202) 502-6362.

SUPPLEMENTARY INFORMATION:

Title: FERC-725E, Mandatory Reliability Standards for the Western Electric Coordinating Council (WECC).

OMB Control No.: 1902-0246.

Type of Request: Revision and extension to the FERC-725E information collection requirements.

Abstract: FERC-725E is the information collection that is required to implement the statutory provisions of section 215 of the Federal Power Act (FPA) (16 U.S.C. 824o). Section 215 of the FPA buttresses the Commission's efforts to strengthen the reliability of the interstate grid through the grant of new authority by providing for a system of mandatory Reliability Standards developed by the Electric Reliability Organization (ERO). Reliability Standards that the ERO proposes to the Commission may include Reliability Standards that are proposed to the ERO by a Regional Entity.¹ A Regional Entity is an entity that has been approved by the Commission to enforce Reliability Standards under delegated authority from the ERO.² On June 8, 2008, the Commission approved eight regional Reliability Standards submitted by the ERO that were proposed by WECC.³

¹ 16 U.S.C. 824o(e)(4).

² 16 U.S.C. 824o(a)(7) and (e)(4).

³ N. Am. Electric Reliability Corp., 119 FERC ¶ 61,260 (2007).

WECC promotes bulk electric system reliability in the Western Interconnection. WECC is the Regional Entity responsible for compliance monitoring and enforcement. In addition, WECC provides an environment for the development of Reliability Standards and the coordination of the operating and planning activities of its members as set forth in the WECC Bylaws.

There are several regional Reliability Standards in the WECC region. These regional Reliability Standards generally require entities to document compliance with substantive requirements, retain documentation, and submit reports to WECC.

In RD24-2-000, standard VAR-501-WECC-3.1 is being updated for syntax and the proposed changes have been deemed non-substantive. The currently approved VAR-501-WECC-3.1 is being replaced by VAR-501-WECC-4. The changes include updates to document numbering, the removal and replacement of obsolete language, and removal of redundant language.

For the purposes of the extension, the following standards will remain unchanged:

• BAL-002-WECC-3 (Contingency Reserve) ⁴ requires balancing authorities and reserve sharing groups to document compliance with the contingency reserve requirements described in the standard.

⁴ BAL-002-WECC-2 is included in the OMB-approved inventory for FERC-725E. On November 9, 2016, NERC and WECC submitted a joint petition for approval of an interpretation of BAL-002-WECC-2, to be designated BAL-002-WECC-2a. BAL-002-WECC-2a was approved by order in Docket No. RD17-3-000 on January 24, 2017. The Order determined: “The proposed interpretation provides clarification regarding the types of resources that may be used to satisfy Contingency Reserve requirements in regional Reliability Standard BAL-002-WECC-2.” BAL-002-WECC-2a did not trigger the Paperwork Reduction Act and did not affect the burden estimate. BAL-002-WECC-2a is being included in this Notice and the Commission's submittal to OMB as part of the FERC-725E. BAL-002-WECC-3 became effective June 28, 2021, under docket RM19-20-000 in Order No. 876, replacing BAL-002-WECC-2a.

• BAL-004-WECC-3 (Automatic Time Error Correction) ⁵ requires balancing authorities to document that time error corrections and primary inadvertent interchange payback were conducted according to the requirements in the standard.

⁵ BAL-004-WECC-3 was approved under docket RD18-2-000 on May 30, 2018.

• FAC-501-WECC-2 (Transmission Maintenance) ⁶ requires transmission owners with certain transmission paths to have a transmission maintenance and inspection plan and to document maintenance and inspection activities according to the plan.

⁶ FAC-501-WECC-2 was approved under docket RD18-5-000 on May 30, 2018.

• IRO-006-WECC-3 (Qualified Transfer Path Unscheduled Flow (USF) Relief) ⁷ requires balancing authorities and reliability coordinators to document actions taken to mitigate unscheduled flow.

⁷ On December 20, 2013, NERC and WECC submitted a joint petition for approval of IRO-006-WECC-2 and retirement of IRO-006-WECC-1. IRO-006-WECC-2 was approved by order in Docket No. RD14-9-000 on May 13, 2014. IRO-006-WECC-3 was approved by order in Docket No. RD19-4-000 on May 10, 2019. Because the reporting burden for IRO-006-WECC-3 did not increase for entities that operate within the Western Interconnection, FERC submitted the order to OMB for information only. The burden related to IRO-006-WECC-3 does not differ from the burden of IRO-006-WECC-2, which is included in the OMB-approved inventory. IRO-006-WECC-3 is being included in this Notice and the Commission's submittal to OMB as part of FERC-725E.

• VAR-501-WECC-4 (Power System Stabilizers (PSS)) requires the Western Interconnection is operated in a coordinated manner under normal and abnormal conditions by establishing the performance criteria for WECC power system stabilizers.

Type of Respondents: Balancing authorities, reserve sharing groups, transmission owners, reliability coordinators, transmission operators, generator operators and generator owners.

Estimate of Annual Burden: ⁸ We provide the tables below with burden estimates which show the current burden estimates which include the ongoing burden associated with reporting and recordkeeping requirements, which are not changing in RD24-2-000. Further, the change in RD24-2-000 is considered non-substantive, therefore, the Commission is estimating that there is no change in the burden estimates from the currently approved estimates.

⁸ Burden is defined as the total time, effort, or financial resources expended by persons to generate, maintain, retain, or disclose or provide information to or for a federal agency. For further explanation of what is included in the information collection burden, refer to 5 Code of Federal Regulations 1320.3.

In Table 1, the Commission highlights the burden estimates for the VAR-501-WECC-4 (updated in Docket no. RD24-2-000). In Table 2, the Commission estimates the total estimated burden for the entirety of the FERC 725E collection.

⁹ The number of respondents is derived from the NERC Compliance Registry as of December 15, 2023.

¹⁰ For VAR-501-WECC-4, the 2023 hourly cost (for salary plus benefits) uses the figures from the Bureau of Labor Statistics for three positions involved in the reporting and recordkeeping requirements. These figures include salary (http://bls.gov/oes/current/naics2_22.htm) and benefits (http://www.bls.gov/news.release/ecec.nr0.htm) and are:

1. Manager: $106.33/hour

2. Engineer: $77.29/hour

3. Information and Record Clerk: $56.14/hour

The hourly cost for the reporting requirements ($91.81) is an average of the cost of a manager and engineer. The hourly cost for recordkeeping requirements uses the cost of an Information and Record Clerk ($56.14/hour).

FERC-725E, Mandatory Reliability Standards for the Western Electric Coordinating Council, Changes in Docket No. RD24-2-000
Entity | Number of respondents ⁹ | Annual number of responses per respondent | Annual number of responses | Average burden hrs. & cost ¹⁰ per response ($) | Total annual burden hours & total annual cost ($) | Cost per respondent ($)
| (1) | (2) | (1) * (2) = (3) | (4) | (3) * (4) = (5) | (5) ÷ (1) = (6)
Standard VAR-501-WECC-4
Reporting Requirements
Generator Owners and/or Operators annual | 311 | 2 | 622 | 1 hr.; $91.81 | 622 hrs.; $57,105.82 | $183.62
Recordkeeping Requirements
Generator Owners and/or Operators annual | 311 | 2 | 622 | 0.5 hrs.; 28.07 | 311 hrs.; $17,459.54 | 56.14
Burden Annual for VAR-501-WECC-4 |  |  |  |  | 933 hrs.; $74,565.36 |

Net Burden for FERC-725E, for Submittal to OMB. The table below describes the new and continuing information collection requirements and the associated burden for FERC-725E. (The burden in Table 2 refers to burden associated with VAR-501-WECC-4, BAL-002-WECC-3, BAL-004-WECC-3, FAC-501-WECC-2, and IRO-006-WECC-3).

FERC-725E, Mandatory Reliability Standards for the Western Electric Coordinating Council
[Continuing information collection requirements]
Entity | Number of respondents ¹¹ | Annual number of responses per respondent | Annual number of responses | Average burden hrs. & cost per response ($) | Total annual burden hours & total annual cost ($) | Cost per respondent ($)
| (1) | (2) | (1) * (2) = (3) | (4) | (3) * (4) = (5) | (5) ÷ (1) = (6)
Reporting Requirements
Balancing Authorities | 34 | 1 | 34 | 21 hrs., $1,928.01 | 714 hrs., $65,552.34 | $1,928.01
Transmission Owners that operate qualified transfer paths | 5 | 3 | 15 | 40 hrs., 3,672.40 | 600 hrs., 55,086.00 | 11,017.20
Reliability Coordinators | 2 | 1 | 2 | 1 hr., 91.81 | 2 hr., 183.62 | 91.81
Reserve Sharing Group | 2 | 1 | 2 | 1 hr., 91.81 | 2 hrs., 183.62 | 91.81
Generator Owners and/or Operators annual for VAR-501-WECC-4 | 311 | 2 | 622 | 1 hr.; 91.81 | 622 hrs.; 57,105.82 | 183.62
Total Annual Reporting Requirements for FERC-725E | 1,940 hrs.; $178,111.40 |
Recordkeeping Requirements
Balancing Authorities | 34 | 1 | 34 | 2.1 hrs., 117.89 | 71.4 hrs., 4,008.40 | 117.89
Balancing Authorities (IRO-006) | 34 | 1 | 34 | 1 hr., 56.14 | 34 hrs., 1,908.76 | 56.14
Reliability Coordinator | 2 | 1 | 2 | 1 hr.; 56.14 | 2 hr.; 112.28 | 56.14
Generator Owners and/or Operators annual for VAR-501-WECC-4 | 311 | 2 | 622 | 0.5 hrs.; 28.07 | 311 hrs.; 17,459.54 | 56.14
Total Annual Recordkeeping for FERC-725E | 418.4 hrs.; $23,488.98 |
Total Annual Burden for FERC-725E | 2,358.4 hrs.; $201,600.38 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹¹ The number of respondents is derived from the NERC Compliance Registry as of December 15, 2023, and represent unique US register entities in the WECC regional area.

Dated: January 31, 2024.
Debbie-Anne Reese,
Acting Secretary.

[FR Doc. 2024-02377 Filed 2-5-24; 8:45 am]

BILLING CODE 6717-01-P